DEPARTMENT OF LABOR

Employment and Training Administration

[TA-W-70,599]

Innovion Corporation, Gresham, OR; Notice of Negative Determination on Reconsideration

On March 31, 2010, the Department of Labor issued an Affirmative Determination Regarding Application for Reconsideration for the workers and former workers of Innovion Corporation, Gresham, Oregon (subject firm). The notice was published in the Federal Register on April 19, 2010 (75 FR 20382). The workers supply ion implantation services for firms in the semiconductor industry.

The initial investigation resulted in a negative determination based on the finding that there was no shift to/acquisition from a foreign country by the workers' firm of services like or directly competitive with the ion implantation services supplied by the subject firm and no increased import by either the subject firm or its major declining customers of services like or directly competitive with the ion implantation services supplied by the subject firm [Section 222(a)]. Further, the workers are not eligible to apply for Trade Adjustment Assistance (TAA) as adversely affected secondary workers [Section 222(c)] or workers of a firm identified by the International Trade Commission as a member of a domestic industry injured under a provision of the Tariff Act of 1930 [Section 222(f)].

The initial investigation concluded that worker separations were attributable to a customer's decision to perform ion implantation services in-house instead of using the subject firm.

During the reconsideration investigation, the Department sought clarification from the subject firm's headquarters and conducted an expanded customer survey of the subject firm's major declining customers, including those identified in the request for reconsideration.

Information provided during the reconsideration investigation confirmed no shift to/acquisition from another country by the subject firm in the supply of ion implantation services, and no increased imports of ion implantation services, or like or directly competitive services, by the subject firm during the relevant period.

The customer survey conducted during the reconsideration investigation showed that, during the relevant time period, the three largest declining customers of the subject firm did not import services like or directly competitive with the ion implantation services provided by the subject workers.

Together, the surveyed customers accounted for 92 percent of subject firm sales in 2007, 89 percent of subject firm sales in 2008, and 84 percent of subject firm sales during the first four months of 2009. Those customers also accounted for 109 percent of the sales decline of the subject firm from 2007 to 2008 and 97 percent of the subject firm's sales decline during the first four months of 2009 as compared with the same period of 2009.

The assertion that the subject firm should be certified as a result of the certification of customer LSI Logic (TA-W-55,958; certified on November 3, 2003) was not investigated on reconsideration because a shift to a foreign country by a customer cannot be a basis of certification absent under Section 222(a), which requires that there has been a shift to a foreign country by the subject firm. Further, the certification of the Chandler, Arizona facility (TA-W-71,648) cannot be the basis of certification of workers of the Gresham, Oregon facility as adversely affected secondary workers because the certification of the Chandler, Arizona facility was based on the satisfaction of Section 222(c) and Section 222(c) requires that the primary firm be certified under Section 222(a).

Conclusion

After reconsideration, I affirm the original notice of negative determination of eligibility to apply for worker adjustment assistance for workers and former workers of Innovion Corporation, Gresham, Oregon.

Signed in Washington, DC, this 15th day of November 2010.
Del Min Amy Chen,
Certifying Officer, Office of Trade Adjustment Assistance.

[FR Doc. 2010-29822 Filed 11-26-10; 8:45 am]

BILLING CODE 4510-FN-P